DEPARTMENT OF DEFENSE

Department of the Navy

Notice of Partially Closed Meeting of the Chief of Naval Operations (CNO) Executive Panel

AGENCY: Department of the Navy, DoD.

ACTION: Notice.

SUMMARY: The CNO Executive Panel will report on the findings and recommendations to the Chief of Naval Operations of the Subcommittee on Naval Support to the Global War on Terror (GWOT). The executive session of this meeting will include discussions of the Navy force structure to support Global War or Terrorism/Irregular Warfare (IW); Navy strategies to implement current/future GWOT tasking; Navy strategies to support Combatant Commanders; and a conclusion/summary on the discussion.

The executive session of this meeting will be closed to the public.

DATES: The open session of the meeting will be held on Wednesday, March 4, 2009, from 1 p.m. to 1:30 p.m. The closed Executive Session will be held from 1:30 p.m. to 4:30 p.m.

ADDRESSES: The meeting will be held in Conference Room 1A01, The Center for Naval Analysis, 4825 Mark Center Drive, Alexandria, VA 22311-1846, telephone number: 703-681-4908.

FOR FURTHER INFORMATION CONTACT: CDR David Di Tallo, CNO Executive Panel, 4825 Mark Center Drive, Alexandria, VA 22311-1846, telephone number: 703-681-4908.

SUPPLEMENTARY INFORMATION: This notice of meeting is provided per the Federal Advisory Committee Act, as amended (5 U.S.C. App.). The executive session of the meeting will consist of discussion of Global War on Terrorism. The proposed closed session will be held from 1:30 p.m. to 4:30 p.m. and will include a discussion of Global War on Terrorism. Discussion of such information cannot be adequately segregated from other topics, which precludes opening the executive session of this meeting to the public.

Accordingly, the Secretary of the Navy has determined in writing that the meeting shall be partially closed to the public because it will be concerned with matters listed in sections 552b(c)(5), and (7) of title 5, United States Code.

Dated: February 10, 2009.
A.M. Vallandingham,
Lieutenant Commander, Judge Advocate General's Corps, U.S. Navy, Federal Register Liaison Officer.

[FR Doc. E9-3387 Filed 2-13-09; 8:45 am]

BILLING CODE 3810-FF-P